DEPARTMENT OF THE INTERIOR

Bureau of Land Management

[NM-070-1430-ES; NMNM-1010121]

Notice of Realty Action: Direct Sale of Public Lands

AGENCY: Bureau of Land Management.

ACTION: Non-Competitive Sale of Public Lands in San Juan County, New Mexico.

SUMMARY: The following described public lands in New Mexico, San Juan County, New Mexico have been examined and found suitable for sale to the City of Bloomfield for an industrial park, utilizing non-competitive procedures, at not less than the fair market value of $500,000.00 as approved by the Bureau of Land Management Appraisal staff. Authority for the sale is Section 203 of the Federal Land Policy and Management Act of 1976 (FLPMA) and 43 CFR 2711.3.3(a)(1).

New Mexico Principle Meridian, New Mexico

T. 29 N., R. 11 W.,

Sec. 34: SW¼NW¼SW¼NE¼, NW¼SW¼SE¼SW¼SW¼NE¼, SW¼SW¼SW¼NE¼. SE¼SW¼SW¼NE¼, SW¼SE¼SW¼NE¼, S½NE¼SE¼NW¼, SE¼NW¼SE¼NW¼, E½SW¼SE¼NW¼, SE¼SE¼NW¼, NE¼NE¼SW¼, E½NW¼NE¼SW¼, E½SW¼NE¼SW¼, SE¼NE¼SW¼, N½NE¼SE¼SW¼, NE¼NW¼SE¼SW¼, W½NE¼NW¼SE¼, NW¼NW¼SE¼, SW¼NW¼SE¼, W½SE¼NW¼SE¼, NW¼NE¼SW¼SE¼, N½NW¼SW¼NE¼.

FOR FURTHER INFORMATION CONTACT: Information related to this action, including the environmental assessment, is available for review at the Bureau of Land Management, Farmington Field Office, 1235 La Plata Highway, Suite A, Farmington, New Mexico 87401, from 7:45 to 4:30 Monday through Friday or call (505) 599-8900).

SUPPLEMENTARY INFORMATION: The land contains 110 acres, more or less, located south of Bloomfield within the Bloomfield city limits. This parcel of land, situated in San Juan County is being offered as a direct sale to the City of Bloomfield, the adjacent property owner for an industrial park. This land is not required for any federal purposes. The proposed action is in compliance with the Farmington Resource Management Plan and Final Environmental Management Plan that was approved September 2003. The sale is consistent with current Bureau planning for this area and would be in the public interest. In the event of a sale, conveyance of surface interests only. The patent, when issued, will contain the following reservations to the United States:

1. Patent Reservations:

A. All valid existing rights (including rights-of-ways).

B. Reserve a right for the Federal Government to construct ditches and canals.

C. Reserve all minerals to the Federal Government.

Interested parties may submit comments to the Field Manager, Farmington Field Office, 1235 La Plata Highway, Suite A, Farmington, New Mexico 87401 until 45 days from the date of publication of this notice in the Federal Register, Any adverse comments will be reviewed by the State Director who may sustain, vacate, or modify this realty action. In the absence of any adverse comments, this realty action will become the final determination of the Department of the Interior. The Bureau of Land Management may accept or reject any or all offers, or withdraw any land or interest in the land from sale, if, in the opinion of the authorized officer, consummation of the sale would not be fully consistent with FLPMA, or other applicable laws. The lands will not be offered for sale until at least 60 days after the date of publication of this notice in the Federal Register.

Joel Farrell,
Assistant Field Manager, Farmington, New Mexico.

[FR Doc. 04-27450 Filed 12-14-04; 8:45 am]

BILLING CODE 1430-VB-P